DEPARTMENT OF JUSTICE

Antitrust Division

Notice Pursuant to the National Cooperative Research and Production Act of 1993—The Telemanagement Forum

Notice is hereby given that, on October 7, 2013, pursuant to Section 6(a) of the National Cooperative Research and Production Act of 1993, 15 U.S.C. 4301 et seq. (“the Act”), The TeleManagement Forum (“the Forum”) has filed written notifications simultaneously with the Attorney General and the Federal Trade Commission disclosing changes in its membership. The notifications were filed for the purpose of extending the Act's provisions limiting the recovery of antitrust plaintiffs to actual damages under specified circumstances. Specifically, the following parties has been added as a party to this venture: DAM Solutions, Mexico City, MEXICO; OneNet Ingeniería S.A., Santiago, CHILE; GTA Teleguam, Tamuning, GUAM; Beijing C-platform Digital Technology Co., Ltd., Beijing, PEOPLE'S REPUBLIC OF CHINA; Valtira LLC, Minneapolis, MN; Applied Network Solutions, Inc., Columbia, MD; BillingPlatform, Denver, CO; ICT Solutions Central America, Guatemala City, GUATEMALA; MedPal Health Solutions, Tel Aviv, ISRAEL; Suvitech Co. Ltd., Bangkok, THAILAND; Symantec Corporation, Mountan View, CA; MDC (Management and Development Company), Beirut, LEBANON; SpiderCloud Wireless, San Jose, CA; Stanford McLeod & Associates Pty Ltd., Point Cook, AUSTRALIA; Telefonica Moviles Argentina, Buenos Aires, ARGENTINA; Splunk, San Francisco, CA; PRESECURE Consulting GmbH, Munster, GERMANY; JBS, Chernihiv, UKRAINE; CIMI Corporation, Voorhees, NJ; MicroStrategy South Africa (Pty) Ltd., Johannesburg, SOUTH AFRICA; TURKSAT AS, Ankara, TURKEY; Broadband Infraco (SOC) Ltd., Gauteng, SOUTH AFRICA; ComScore, Reston, VA; KIBO FZC, Ras Al Kaimah, UNITED ARAB EMIRATES; AMKB Cloud, Denver, CO; Infinera Corp., Sunnyvale, CA; CenterNODE Ltd., Cobh, IRELAND; Neul Ltd., Cambridge, UNITED KINGDOM; Hydro-Quebec, Montreal, CANADA; PiA Bilişim Hizmetleri Ltd., İstanbul, TURKEY; Attensity Group, Palo Alto, CA; Bakcell LTD, Baku, AZERBAIJAN; Finserve Africa Ltd., Nairobi, KENYA; NISCERT Corporation, Toronto, CANADA; GVT, Parana, BRAZIL; ACBIS, Trois, CANADA; ADVANCED INFO SERVICE PLC. (AIS), Phayathai Bangkok, THAILAND; Metro Ethernet Forum, Los Angeles, CA; PT Indosat Tbk, Jakarta Pusat, INDONESIA; Iprotel Ltd., Reading, UNITED KINGDOM; Shaw Communications, Calgary, CANADA; CyberFlow Analytics, La Jolla, CA; Telesens IT, Kharkiv, UKRAINE; and Icaro Technologies, Campinas, BRAZIL.

The following members have withdrawn as parties to this venture: ADVA Optical Networking Ltd., York, UNITED KINGDOM; Avvasi Inc., Ontario, CANADA; CBOSS, Moscow, RUSSIA; Celona Technologies, London, UNITED KINGDOM; EITC(DU), Dubai, UNITED ARAB EMIRATES; Etisalat Cote d'Ivoire, Abidjan, COTE D'IVOIRE; Etisalat Misr, Cairo, EGYPT; Etisalat UAE, Abu Dhabi, UNITED ARAB EMIRATES; Futuro Exito Sp. z o.o., Lubin, POLAND; globeOSS, Shah Alam, MALAYSIA; IBB Consulting Group, Philadelphia, PA; Kazakhstan Business Review, Astana, KAZAKHSTAN; Kazgorset, Kazan, RUSSIA; Lavastorm Analytics, Warrington, UNITED KINGDOM; LINK Development, Cairo, EGYPT; Maxis Broadband Sdn Bhd, Kuala Lumpur, MALAYSIA; Millicom International Cellular S.A., Leudelange, LUXEMBOURG; MindTree, Paris, FRANCE; Nawras, Muscat, OMAN; Neosynapse, Dublin, IRELAND; Nephologic Ltd, Dublin, IRELAND; PT Global Innovation Technology, Jakarta, INDONESIA; Salesforce.com, San Francisco, CA; Securit Kft, Szilasliget, HUNGARY; Smart Path Ltd., Tel Aviv, ISRAEL; Smartecute, LLC., Marietta, GA; Stevens Institute of Technology, Hoboken, NJ; TeleworX LLC., Reston, VA; Trendium, Boulder, CO; UBS Financial Services, Weehawken, NJ; uFONE, Islamabad, PAKISTAN; VC4, Alkmaar, NETHERLANDS; Vietnam Posts and Telecommunications Group, Hanoi, VIETNAM; ENTEREST GmbH, Hamburg, GERMANY; MTN Business Solutions (Pty) Ltd., Johannesburg, SOUTH AFRICA; OMANTEL, Muscat, OMAN; Seavus AB, Malmo, SWEDEN; and Sooth Technology, Pepper Pike, OH.

The following members have changed their names: France Telecom Orange to Orange, Paris, FRANCE; Vodafone UK to Vodafone Group, Newbury, UNITED KINGDOM; QATAR TELECOM (Qtel International) to Ooredoo (Former Qtel International), Doha, QATAR; Accanto Systems to Accanto Systems Oy, Modena, ITALY; N-Pulse AG to N-Pulse GmbH, Heppenheim, GERMANY; Broadband Infraco (Pty) Ltd., to Broadband Infraco (SOC) Ltd., Johannesburg, SOUTH AFRICA; Rancore Technologies Private Ltd. to Reliance Jio Infocomm Ltd., Navi Mumbai, INDIA; Northrop Grumman Systems Corp., acting through its Northrop Grumman Information Systems Sector, Defense Technologies Division to Northrop Grumman Systems Corp., acting through its Northrop Grumman Information Systems Sector, Cyber Solutions Division, McLean, VA; Sandvine to Sandvine, Inc., Ontario, CANADA; Institute of Technology, Faculty of Electronics and Information Technology, Warsaw University of Technology to Institute of Telecommunications, Faculty of Electronics and Information Technology, Warsaw University of Technology, Warsaw, POLAND; and Cyber Squared to ThreatConnect (Division of Cyber Squared), Arlington, VA.

No other changes have been made in either the membership or planned activity of the group research project. Membership in this group research project remains open, and the Forum intends to file additional written notifications disclosing all changes in membership.

On October 21, 1988, the Forum filed its original notification pursuant to Section 6(a) of the Act. The Department of Justice published a notice in the Federal Register pursuant to Section 6(b) of the Act on December 8, 1988 (53 FR 49615).

The last notification was filed with the Department on July 16, 2013. A notice was published in the Federal Register pursuant to Section 6(b) of the Act on August 15, 2013 (78 FR 49769).

Patricia A. Brink,
Director of Civil Enforcement, Antitrust Division.

[FR Doc. 2013-26972 Filed 11-8-13; 8:45 am]

BILLING CODE 4410-11-P